DEPARTMENT OF COMMERCE

Foreign-Trade Zones Board

[Order No. 1757]

Approval for Manufacturing Authority, Foreign-Trade Zone 104; Mitsubishi Power Systems Americas, Inc., (Power Generation Turbine Components), Pooler, GA

Pursuant to its authority under the Foreign-Trade Zones Act of June 18, 1934, as amended (19 U.S.C. 81a-81u), the Foreign-Trade Zones Board (the Board) adopts the following Order

:

Whereas, the Savannah Airport Commission, grantee of Foreign-Trade Zone 104, has requested manufacturing authority on behalf of Mitsubishi Power Systems Americas, Inc., within FTZ 104 in Pooler, Georgia (FTZ Docket 53-2010, filed 9-13-2010);

Whereas, notice inviting public comment has been given in the Federal Register (75 FR 56985, 9-17-2010) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application for manufacturing authority under zone procedures within FTZ 104 on behalf of Mitsubishi Power Systems Americas, Inc., as described in the application and Federal Register notice, is approved, subject to the FTZ Act and the Board's regulations, including Section 400.28.

Signed at Washington, DC, this 6th day of May 2011.
Ronald K. Lorentzen,
Deputy Assistant Secretary for Import Administration, Alternate Chairman, Foreign-Trade Zones Board.
Andrew McGilvray,
Executive Secretary.

[FR Doc. 2011-12096 Filed 5-16-11; 8:45 am]

BILLING CODE P